DEPARTMENT OF HEALTH AND HUMAN SERVICES

National Institutes of Health

Center For Scientific Review; Amended Notice of Meeting

Notice is hereby given on a change in the meeting of the Center for Scientific Review Special Emphasis Panel, February 24, 2005, 8 a.m. to February 25, 2005, 5 p.m., Hyatt Regency Bethesda, One Bethesda Metro Center, 7400 Wisconsin Avenue, Bethesda, MD, 20814 which was published in the Federal Register on January 31, 2005, 70 FR 4880.

The starting time of the meeting has been changed to 7:30 p.m. on February 24, 2005. The meeting dates and location remain the same. The meeting is closed to the public.

Dated: February 11, 2005.
LaVerne Y. Stringfield,
Director, Office of Federal Advisory Committee Policy.

[FR Doc. 05-3151 Filed 2-17-05; 8:45 am]

BILLING CODE 4140-01-M